Title 3—

The President

Proclamation 9708 of March 19, 2018

National Agriculture Day, 2018

By the President of the United States of America

A Proclamation

On National Agriculture Day, we acknowledge the tremendous work ethic, ingenuity, determination, and perseverance that define generations of American farmers. Because of their efforts, the United States produces an abundant supply of food, feed, and fuel for a growing global population. Our rich and abundant soil provides for more than just sustenance—it provides a beautiful and bountiful way of life for millions of Americans.

America's strong agricultural sector is a key component of our Nation's robust economy and trade. Every $1 of United States agricultural and food exports creates another $1.27 in business activity. Our country's agriculture exports are valued at more than $100 billion, and every $1 billion in exports supports approximately 8,000 American jobs. Moreover, agriculture contributes to at least 8.6 percent of our gross domestic product. The economic boost from our agriculture reaches beyond the fields our farmers tend, with unrivaled skill and diligence, to communities all across America.

America's farmers, growers, ranchers, foresters, and agricultural scientists and engineers are world-leading innovators, exploring new research and technologies like advancements in biotechnology and the use of automated vehicles that enable precision agriculture to maximize yields and minimize environmental impacts. My Administration proudly supports them in their pioneering endeavors. In this new era of American agriculture, the U.S. Department of Agriculture is investing in rural broadband access, roads, and bridges, and is supplying affordable, reliable power to those living on the outskirts of larger cities and towns. These investments in American infrastructure will improve the quality of life in rural America for years to come.

To help the American agricultural economy succeed in an increasingly competitive global market, I signed the Tax Cuts and Jobs Act, the largest tax cut and reform legislation in American history. This legislation is providing much needed relief to America's farmers, who can now expense 100 percent of their capital investments, including expenditures for farm equipment, over the next 4 years. Additionally, under this new legislation, the vast majority of family farms will now be exempt from the death tax.

American agriculture is an integral part of our success as a Nation, uniquely tied to both our country's culture and economy. Today, and every day, we cherish our Nation's rich agricultural history and celebrate the greatness of the American farmer.

NOW, THEREFORE, I, DONALD J. TRUMP, President of the United States of America, by virtue of the authority vested in me by the Constitution and the laws of the United States, do hereby proclaim March 20, 2018, as National Agriculture Day. I encourage all Americans to observe this day by recognizing the preeminent role that agriculture plays in our daily lives, acknowledging agriculture's continuing importance to rural America and our country's economy, and expressing our deep appreciation of farmers, growers, ranchers, producers, national forest system stewards, private agricultural stewards, and those who work in the agriculture sector across the Nation.

IN WITNESS WHEREOF, I have hereunto set my hand this nineteenth day of March, in the year of our Lord two thousand eighteen, and of the Independence of the United States of America the two hundred and forty-second.

[FR Doc. 2018-05980

3-21-18; 8:45 am]

Billing code 3295-F8-P